DEPARTMENT OF TRANSPORTATION

Federal Motor Carrier Safety Administration

Qualification of Drivers; Exemption Applications; Vision

AGENCY: Federal Motor Carrier Safety Administration (FMCSA), DOT.

ACTION: Notice of denials.

SUMMARY: The FMCSA is publishing the names of persons denied exemptions from the vision standard in 49 CFR 391.41(b)(10) and the reasons for the denials.

FOR FURTHER INFORMATION CONTACT: For information about the applications addressed in this notice, Ms. Teresa Doggett, Office of Bus and Truck Standards and Operations, MC-PSD, (202) 366-2990; for information about legal issues related to this notice, Mr. Joseph Solomey, Office of the Chief Counsel, (202) 366-1374, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), the FMCSA may grant an exemption for a renewable 2-year period if it finds “such exemption would likely achieve a level of safety that is equivalent to, or greater than, the level that would be achieved absent such exemption.”

Accordingly, the FMCSA individually evaluated 251 exemption requests on their merits and made a determination that the applicants do not satisfy the criteria established to demonstrate that granting the exemptions is likly to achieve an equal or greater level of safety that exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

One hundred fourteen applicants lacked sufficient recent driving experience over the past three years. Eighteen applicants had no experience operating a commercial motor vehicle and therefore presented no evidence from which the FMCSA can conclude that granting the exemption is likely to achieve a level of safety equal to that existing without the exemption. Forty-one did not have 3 years of experience driving a commercial motor vehicle on public highways with the vision deficiency. Fourteen did not have 3 years recent experience driving a commercial motor vehicle with the vision deficiency. One applicant did not qualify for the exemption because he met the vision standards at 49 CFR 391.41(b)(10). Thirteen applicants did not qualify because they were charged with moving violation(s) in conjunction with commercial motor vehicle accident(s), which is a disqualifying offense under the exemption criteria. Two applicants had more that two commercial motor vehicle moving violations during a 3-year period and/or application process. Each applicant is only allowed two moving citations. One applicant did not have sufficient peripheral vision in the better eye to qualify for an exemption. Twelve applicants' licenses were suspended during the 3-year period because of a moving violation and, therefore, could not qualify for the exemption. Two applicants could not qualify for the exemption because they were convicted of two serious traffic violations within the 3-year period. An applicant for a vision exemption is only allowed two traffic violations in a 3-year period, of which only one can be a serious violation. Eight applicants did not have verifiable proof of commercial driving experience during a 3-year period under normal highway operating conditions that would serve as an adequate predictor of future safety performance. Fifteen applicants were involved in commercial motor vehicle accidents in which they contributed to the accident. Based on information received from State motor vehicle records, two applicants did not demonstrate the level of safety required for interstate driving because of excessive moving/non-moving violations during the 3-year period. Three applicants did not hold licenses which allowed operation of a CMV over 10,000 pounds gross vehicle weight rating for all or part of the 3-year period. An applicant did not qualify for the exemption because he was not willing to make the required statement on the application indicating “he is otherwise qualified under 49 CFR 391.41(b)(1-13), without the benefit of any other waiver or exemption.” Another applicant did not meet the minimum requirements for consideration for a renewal exemption. According to information submitted with the application and other records obtained by FMCSA, the applicant drove a CMV in interstate commerce during the 2-year period the exemption was in effect while in violation of other medical qualification requirements. Three applicants were placed in the “other” category for having multiple reasons for denial. One applicant in this category had only two years of CMV experience and his license was suspended during the 3-year period. Another applicant in this category met the Federal vision requirements but only drove 16-18 hours per week. The third applicant was involved in an accident during the 3-year period where he contributed to the accident and was also involved in a CMV accident during the 3-year period where he was cited in the accident.

Summary of Causes for Not Granting Exemptions

The FMCSA has denied the following petitions for exemption from the vision standard in 49 CFR 391.41(b)(10). All applicants were previously notified of their denials by individual letters. The purpose of publishing these denials is simply to comply with 49 U.S.C. 31315(b)(4)(C), by periodically publishing in the Federal Register the names of persons denied exemptions and the reasons for such denials.

Reason—Does not have sufficient driving experience over the past three years under normal highway operating conditions that would serve as an adequate predictor of future safe performance
Last name | First name | Last name | First name
Adler, | Dennis | Beroney, | Raymond
Alberry, | David | Betit,. | Thomass
Andrews, | John | Biondo, | Michael
Arthur, | Edwin | Brazil, | Bobby
Bacon, | Norman | Butts, | Edwin
Badger, | Donald | Cassatt, | Daryl
Badrick, | Richard | Chapman, | Franklin
Bailey, | Marcus | Clark, | Karen
Baptiste, Jr. | Barney | Cliffe, | Terry
Barrett, | William | Cline, | Lonnie
Bell, Jr. | Roy | Collins, | Warren
Confreda, | John | Hanson, | Ronald
Davidson, | Ronnie | Harrington, | Michael
Davis, | Geraldine | Harris, | Edward
Denson, | Sidney | Hatton, | Richard
Doolittle, | William | Heayberd, | John
Downie, | Neville | Henry, | Thomas
DuRussell, | Donald | Hernandez, | Guadalupe
Dykstra, | Stephen | Higgs, | Gail
Falkner, | Gary | Hildebrand, | Todd
Farmer, | Allan | Hougland, | Randall
Fiamma, | John | Huffman, | Willard
Flannery, | William | Jelks, | Gloria
Fleming, | Martin | Johnson, | Jimmy
Forslin, | Steven | Kervin, | Christopher
Gonzalez, | Valentin | Knecht, | Herbert
Gove, | Laurel | Kocher, | Stan
Gowan, III | Walter | Long, Jr. | Mearlin
Green, | Frederick | Lovett, | Gordon
Griggs, | Larry | Marshall, | Chester
Hall, | Johnnie | Mather, | Michael
Hamilton, | Daniel | Mazyck, | Jason
Hamm, | John | McCabe, | William
McIntosh, | Judith | Robinson, | Daniel
McIntyre, | Larry | Robison, | Leroy
Medley, | Donald | Rogers, | Larry
Michael, | Anthony | Schnase, | Gerald
Morris, | Gary | Schneider, | Michael
Morris, | Charles | Simon, | Arlynn
Murayama, | Robin | Simpson, | Wayne
Murray, | Stephen | Smith, | Donald
Navish, | Charles | St. John, | Gary
Neal, Sr. | Charles | Sutter, | Jarid
Noonan, | Robert | Tate, | Brian
Oddy, | Kevin | Thaxton, Jr. | Ronald
Ott, | William | Thomason, | Douglas
Parks, | Fred | Trosclair, | Kory
Patterson, | James | Valente, | John
Phelps, | Eugene | Vance, | Jack
Prezzia, | Ronald | Vorse, | Charles
Proudfit, | Terry | Wendt, | Gerald
Raulston, | Stephen | White, | Walter
Ream, | Harley | White, | Arthur
Reimer, | Phillip | Wilkerson, | Noel
Reno, | Thomas | Wilkerson, Jr. | William
Wilson, | Kent
Windnagel. | Jeff
Workman, | Ronald
Wyatt, Jr. | Paul

Reason—Has no experience operating a commercial motor vehicle and therefore presented no evidence from which the FMCSA can conclude that granting the exemption is likely to achieve a level of safety equal to that existing without the exemption
Last name | First name | Last name | First name
Aleem, | Alphonso | Kirby, | Christopher
Baldit, | Jose | LaCour, | Robert
Benton, | Damon | McFadden, | Wilbert
Burns, | James | Nastro, | Antonino
Ezell, | Carlos | Rodrigues, | Osvaldo
Fisher, | David | Shirk, | Rhonda
Fotheringham, | John | Veloz, | Nelson
Gomez, | Juan | Young, | Kevin
Harper, | Steven

Reason—Does not have 3 years of experience driving a commercial motor vehicle with vision deficiency on public highways
Last name | First name | Last name | First name
Barraco, | Matthew | Johnson, | Eugene
Browning, | James | Johnston, | Mickey
Buckman, Jr | Jay | Jones, | Benjamin
Clark, | William | Kirouac, | Donald
Dean, | John | Leonard, | Larry
Denton, Jr | James | Luckey, | William
Edwards, | Dewain | MacPherson, | Scott
Ensor, | Walter | McDermott, | Eric
Farmer, Sr. | Charles | McKenzie, | Benjamin
Ferking, | Timothy | Meador, | Michael
Gasper, | Shawn | Mullins, | Michael
Hall, | Robert | Simmons, | James
Hoffarth, | Michael | Sims, | LeTroy
Holley, | Tony | Smith, | Rex
Hurst, | Edward | Smith, | Eric
Jacobs, | Vincent | Thomas, | Steven
Johnson, | Daryl | Turner, | Ronald
Valles, | Humberto | Waner, | Eugene
Varga, | Joseph | Weber, Jr. | George
Vines, | Phillip | Weekly, | Wesley
Vollink, | Tunis |  |

Reason—Does not have 3 years of experience driving a commercial motor vehicle with vision deficiency
Last name | First name | Last name | First name
Boersma, | John | Jones, | Earnest
Burnworth, | Keith | Kempke, | Clarence
Demaree, | Robin | Milbourn, | Peggy
Gallion, | Pamela | Riordan, II | Donald
Goode, | Larry | Ryals, | Robert
Jackson, Sr. | Joseph | Walker, | Norman
Johnson, | Howard | Yezerski, | Thomas

Reason—Meets the vision requirements of 49 CFR 391.41(b)(10). Does not need a vision exemption
Last name | First name | Last name | First name
Pearl, | Steven |  |

Reason—Charged with moving violations(s) in conjunction with commercial motor vehicle accident(s). Disqualifying offense
Last name | First name | Last name | First name
Allen, | Ronald | Cooper, | William
Briones, Jr. | Robert | Galloway, | Jerry
Cooper, | William | Sequera, | Anthony
Galloway, | Jerry | White, | Ronald
Luce, | Robert | Williams, | James
Miller, | Stuart | Moose, | Harry

Reason—Had more than 2 commercial motor vehicle violations during 3-year period and/or application process. Each applicant is only allowed 2 moving citations
Last name | First name | Last name | First name
Brannon, | Robert | Pearson, Jr. | Jesse

Reason—Does not have sufficient peripheral vision in the better eye to qualify for an exemption
Last name | First name | Last name | First name
Williams, | Sandy |  |

Reason—Commercial driver's license was suspended during 3-year period in relation to a moving violation. Applicants do not qualify for an exemption with a suspension during a 3-year period
Last name | First name | Last name | First name
Abbott, | Harold | Kulibert, | James
Dolbear, | Cecil | Logan, | Leonard
Eagling, | Donald | Relien, | Steven
Gard, | Kevin | Right, | Willie
Griffin, | Clarence | Shell, | Juan
Hogan, | Earl | Howe, | Marvin

Reason—Had two serious commercial motor vehicle violations within the 3-year period. Each applicant is only allowed a total of two moving citations, of which only one can be serious
Last name | First name | Last name | First name
Persun, | Bryon | Walden, | Billy

Reason—Does not have verifiable proof of commercial driving experience over the past 3 years under normal highway operating conditions that would serve as an adequate predictor of future safe performance
Last name | First name | Last name | First name
Barber, | Jimmy | Harding, Jr. | Glenn
Bennett, | Aaron | High, | Frank
Cole, | Kevin | Lamontagne, | Kenneth
Fryar | Sheldon | McJunkin, | Walter

Reason—Contributed to accident(s) in which applicant was operating a commercial motor vehicle. Disqualifying offense
Last name | First name | Last name | First name
Campbell, | Paul | Schnautz, | Paul
Craddock, | Don | Shipley, | John
Doeing, | Gerald | Smith, | Henry
Hurley, | Robert | Sucharda, | Todd
Mangen, | Phillip | Triguerio, | Rick
Manuel, | Allen | Williams, | Samuel
Matthews, Jr. | Ronald | Wood, | Bernard
Reveal, | Gary

Reason—Based on information received on State-issued driving report, applicant did not demonstrate the level of safety required for interstate driving (excessive moving/nonmoving violations during 3-year period)
Last name | First name | Last name | First name
Davison, | Gregory | Houston, | Jon

Reason—Did not hold a license which allowed operation of vehicles over 10,000 pounds gross vehicle weight rating for all or part of 3-year period
Last name | First name | Last name | First name
Slinker, | Elston | Turek, | Timothy
Sumner, | Brian

Reason—Applicant not willing to make required statement indicating they are otherwise qualified under 49 CFR 391.41(b)(1)-(b)(13) without the benefit of any other waiver or exemption
Last name | First name | Last name | First name
Laderoute, Jr. | Fred

Reason—Does not meet the minimum requirements for consideration for a renewal exemption
Last name | First name | Last name | First name
Watt, | Ronald

Reason—Other (Multiple reasons for denial)
Last name | First name | Reasons for denial
Byerly, | Dennis | (1) only has two years of CMV experience and (2) his license was suspended during the 3-year period
Harbin, | Duane | (1) currently meets Federal vision requirements and (2) only drives 16-18 hours per week.
Lathrop, | Jeffery | (1) involved in an accident during the 3-year period where he contributed to accident and (2) involved in CMV accident during 3-year period where he was cited in the accident.

Authority: 49 U.S.C. 322,31315, and 31136; 49 CFR 1.73.

Issued on: January 29, 2002.
Brian M. McLaughlin,
Associate Administrator, Policy and Program Development.

[FR Doc. 02-4637 Filed 2-26-02; 8:45 am]

BILLING CODE 4910-EX-P